ENVIRONMENTAL PROTECTION AGENCY

[ER-FRL-8989-2]

Environmental Impacts Statements; Notice of Availability

Responsible Agency: Office of Federal Activities, General Information, (202) 564-1399 or http://www.epa.gov/compliance/nepa/.

Weekly receipt of Environmental Impact Statements

Filed 03/08/2010 through 03/12/2010

Pursuant to 40 CFR 1506.9

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100074, Draft EIS, FHWA, MO,First Tier—Future I-70 Kansas City Metro Project, Proposing to Improve I-70 Corridor from East of the Missouri and Kansas State Line to East of I-470 Interchange, Downtown Central Business Freeway Loop, Kansas City, Jackson County, MO, Comment Period Ends: 05/07/2010, Contact: Peggy Casey 573-636-7104.

EIS No. 20100075, Final EIS, USA, LA,Joint Readiness Training Center and Fort Polk Land Acquisition Program, Purchase and Lease Lands for Training and Management Activities, in the Parishes of Vernon, Sabine, Natchitoches, LA, Wait Period Ends: 04/19/2010, Contact: Kristin Evenstad, 703-692-6427.

EIS No. 20100076, Final EIS, FRBSF, WA,Federal Reserve Bank of San Francisco, Proposes to sell the Property at 1015 Second Avenue that is Eligible for Listing on the National Register of Historic Places, located in Seattle, WA, Wait Period Ends: 04/19/2010, Contact: Robert Kellar 415-974-2655.

EIS No. 20100077, Final EIS, USFWS, NV,Southeastern Lincoln County Habitat Conservation Plan, Application Package for Three Incidental Take Permits, Authorize the Take of Desert Tortoise (Gopherus agassizii) and Southwestern Williow Flycatcher (Empidonax traillii extimus), Implementation, Lincoln County, NV, Wait Period Ends:05/03/2010, Contact: John Robles 916-414-6731.

EIS No. 20100078, Draft EIS, USACE, FL,Central and Southern Florida Project, Comprehensive Everglades Restoration Plan, Biscayne Bay Coastal Wetlands Phase I Project, To Restore the Natural Hydrology and Ecosystem in an Area Degraded by Drainage Systems and Land Development, Miami-Dade County, FL, Comment Period Ends: 05/03/2010, Contact: Brad Tarr 904-232-3582.

EIS No. 20100079, Revised Draft EIS, FRA, SC,Bay Area to Central Valley High-Speed Train (HST) Project, Additional Information and Analysis Needed for Compliance with the Court Judgement, Provide a Reliable High-Speed Electrified Train System to Link Bay Area Cities to the Central Valley, Sacramento, and South California, Comment Period Ends:05/03/2010, Contact: Dan Leavitt 916-324-1541.

EIS No. 20100080, Final EIS, USFS, CA,Sugar Pine Adaptive Management Project, Proposal to Create a Network of Strategically Placed Landscape Area Treatments (SPLATs) and Defensible Fuels Profiles near Key Transportation Corridors to Reduce the Intensity and Spread of Wildfires across the landscape and near Communities, Madera and Mariposa Counties, CA, Wait Period Ends: 04/19/2010, Contact: Mark Lemon 559-877-2218 Ext 3110.

EIS No. 20100081, Draft EIS, USFS, AZ,Coconino National Forest Travel Management Project, Proposes to Designate a System of Road and Motorized Travel, Implementation, Coconino and Yavapai County, AZ, Comment Period Ends:05/17/2010, Contact: Jim Beard 928-527-3474.

EIS No. 20100082, Draft EIS, USFS, ID,Clear Prong Project, To Implement Silvicultural Activities, Including Thinning of Sub-Merchantable Trees, Prescribed Fires and Aspen Enhancement on 2,190 Acres, Bois National Forest, Cascade Ranger District, Valley County, ID, Comment Period Ends:05/03/2010, Contact: Keith Dimmett 208-382-7400.

EIS No. 20100083, Draft EIS, BLM, NV,Amargosa Farm Road Solar Energy Project, Construction and Operation of Two Concentrated Solar Power Plant Facilities, Right-of-Way Application on Public Lands, Nye County, NV, Comment Period Ends: 05/03/2010, Contact: Gregory Helseth 702-515-5173.

EIS No. 20100084, Final EIS, USCG, AL,Bienville Offshore Energy Terminal (BOET) Deepwater Port License Application Amendment (Docket # USCG-2006-24644), Proposes to Construct and Operate a Liquefied Natural Gas Receiving and Regasification Facility, Outer Continental Shelf of the Gulf of Mexico, South of Fort Morgan, AL, Wait Period Ends: 04/30/2010, Contact: Lt. Hannah Kawamoto 202-372-1438.

EIS No. 20100085, Draft EIS, BLM, CA,Blythe Solar Power Project (09-AFC-6), Application for Right-of Way Grant to Construct and Operate, and Decommission a Solar Thermal Facility on Public Lands, Riverside County, CA, Comment Period Ends: 06/16/2010, Contact: Sandra McGinnis 916-978-4427.

EIS No. 20100086, Final EIS, NOAA, 00,Amendment 3 to the 2006 Consolidated Atlantic Highly Migratory Species (HMS), Fishery Management Plan, To Implement Management Measures that Prevent Overfishing and Rebuild Overfished Stocks, Implementation, Wait Period Ends: 04/19/2010, Contact: Margo Schulze-Haugen 301-713-2347.

Amended Notices

EIS No. 20100037, Second Draft Supplement, USFS, 00,Sierra Nevada Forest Plan Amendment, Proposes to Provide an Objective Comparison of all of the Alternatives for 2004 Final EIS, Amending Land and Resource Management Plans, Modoc, Lasser, Plumas, Tahoe, Eldorado, Stanislaus, Sequoia, Sierra, Inyo and Humboldt-Toiyabe National Forests, and the Lake Tahoe Basin Management Unit, Several Counties, CA and NV, Comment Period Ends: 05/05/2010, Contact: Randy Moore 707-562-8737, Revision to FR Notice Published 02/19/2010: Extending Comment Period from 04/05/2010 to 05/05/2010.

EIS No. 20100066, Final EIS, FHWA, FL,WITHDRAWN—Interstate 395 (I-395) Development and Environment Study Project, From I-95 to West Channel Bridges of the MacArthur Causeway at Biscayne Bay, City of Miami, Miami-Dade County, FL, Wait Period Ends: 04/12/2010, Contact: Linda K. Anderson 850-942-9650 Ext. 3053, Revision to FR Notice Published 03/12/2010: EIS is withdrawn due to Non-Distribution of the document.

Dated: March 16, 2010.
Robert W. Hargrove,
Director, NEPA Compliance Division, Office of Federal Activities.

[FR Doc. 2010-6081 Filed 3-18-10; 8:45 am]

BILLING CODE 6560-50-P